ENVIRONMENTAL PROTECTION AGENCY

40 CFR Part 62

[Region II Docket No. VI3-2; FRL-7420-5]

Approval and Promulgation of State Plans for Designated Facilities; Virgin Islands

AGENCY: Environmental Protection Agency.

ACTION: Proposed rule.

SUMMARY: The Environmental Protection Agency (EPA) is proposing to approve a negative declaration submitted by the Government of the United States Virgin Islands. The negative declaration satisfies EPA's promulgated Emission Guidelines (EG) for existing small municipal waste combustion (MWC) units. In accordance with the EG, states are not required to submit a plan to implement and enforce the EG if there are no existing small MWC units in the state and it submits a negative declaration letter in place of the State Plan.

DATES: Written comments must be received on or before January 10, 2003.

ADDRESSES: All comments should be addressed to: Raymond Werner, Chief, Air Programs Branch, Environmental Protection Agency, Region II Office, 290 Broadway, New York, New York 10007-1866.

A copy of the Virgin Islands submittal is available for inspection at the Region 2 Office in New York City. Those interested in inspecting the submittal must arrange an appointment in advance by calling (212) 637-4249. Alternatively, appointments may be arranged via e-mail by sending a message to Demian P. Ellis at Ellis.Demian@epa.gov. The office address is 290 Broadway, Air Programs Branch, 25th Floor, New York, New York 10007-1866.

A copy of the Virgin Islands submittal is also available for inspection at the following location:

Virgin Islands Department of Planning and Natural Resources, Division of Environmental Protection, Cyril E. King Airport, Terminal Building, 2nd Floor, St. Thomas, USVI 00802.

FOR FURTHER INFORMATION CONTACT: Demian P. Ellis, Air Programs Branch, Environmental Protection Agency, 290 Broadway, 25th Floor, New York, New York 10007-1866, Telephone, (212) 637-4249.

SUPPLEMENTARY INFORMATION: For additional information see the direct final rule which is located in the Rules Section of this Federal Register.

The Environmental Protection Agency (EPA) is proposing to approve a negative declaration submitted by the Government of the United States Virgin Islands (Virgin Islands) on July 17, 2002. The negative declaration officially certifies to EPA that, to the best of the Virgin Islands' knowledge, there are no small municipal waste combustion units in operation within the Territory. This negative declaration concerns existing small municipal waste combustion units throughout the Territory of the U.S. Virgin Islands. The negative declaration satisfies the Federal Emission Guidelines (EG) requirements of EPA's promulgated regulation entitled “Emission Guidelines for Existing Small Municipal Waste Combustion Units” (65 FR 76378, December 6, 2000).

Dated: November 15, 2002.
William J. Muszynski,
Acting Regional Administrator, Region 2.

[FR Doc. 02-31238 Filed 12-10-02; 8:45 am]

BILLING CODE 6560-50-P